FEDERAL MARITIME COMMISSION

[Docket No. 25-24]

Southern International Co., Ltd., Complainant v. Daynamez Group of Companies LLC, Respondent; Notice of Filing of Amended Complaint

Notice is given that an amended complaint has been filed with the Federal Maritime Commission (the “Commission”) by Southern International Co., Ltd. (the “Complainant”) against Daynamez Group of Companies LLC (the “Respondent”).¹ Complainant states that the Commission has subject-matter jurisdiction over the complaint pursuant to 46 U.S.C. 41301 and 46 CFR 502.61(c), and personal jurisdiction over Respondent as an entity that “acted functionally” as a non-vessel-operating common carrier.

¹ This amended complaint was originally submitted via email directly to the Commission's Office of Administrative Law Judges on December 10, 2025, and served by Complainant on Respondent that same day. The Office of the Secretary was not included as an email recipient on the amended complaint. Pursuant to 46 CFR 502.2(c) and the September 5, 2025 Initial Order, filings in this proceeding that are submitted via email must be sent to the Secretary (secretary@fmc.gov) and the opposing party, with a courtesy copy (cc) to the presiding judge (judges@fmc.gov).

Complainant is a limited liability company and ocean transportation intermediary organized and operating under the laws of Vietnam with its principal place of business located in Ho Chi Minh City, Vietnam.

Complainant identifies Respondent as a limited liability company that engages in the business of providing ocean transportation and logistics services, organized and operating under the laws of the state of Virginia with its principal place of business located in Fairfax, Virginia.

Complainant alleges that Respondent violated 46 U.S.C. 40901, 40902, and 41102(a), (b), and (c). Complainant alleges these violations arose from Respondent's operating as a non-vessel-operating common carrier without a license, failure to remit payment to relevant carriers for the shipping of 558 containers contracted by Complainant, repeated misappropriation of funds, and other acts or omission by Respondent.

Per the presiding judge's December 1, 2025 order in this proceeding, an answer to the amended complaint was to be filed with the Commission within 25 days after the date of service of the amended complaint.

The full text of the complaint can be found in the Commission's electronic Reading Room at https://www2.fmc.gov/readingroom/proceeding/25-24/. This proceeding is assigned to the Office of Administrative Law Judges. The initial decision of the presiding judge shall be issued by August 31, 2026, and the final decision of the Commission shall be issued by March 15, 2027.

(Authority: 46 U.S.C. 41301; 46 CFR 502.61(c))

Served: January 13, 2026.
David Eng,
Secretary.

[FR Doc. 2026-00790 Filed 1-15-26; 8:45 am]

BILLING CODE 6730-02-P